DEPARTMENT OF LABOR

Occupational Safety and Health Administration

[Docket No. OSHA-2011-0034]

Subpart A (“General Provisions”) and Subpart B (“Confined and Enclosed Spaces and Other Dangerous Atmospheres in Shipyard Employment”); Extension of the Office of Management and Budget's (OMB) Approval of Information Collection (Paperwork) Requirements

AGENCY: Occupational Safety and Health Administration (OSHA), Labor.

ACTION: Request for public comments.

SUMMARY: OSHA solicits public comments concerning its proposal to extend OMB approval of the information collection requirements specified in 29 CFR part 1915, subpart A (“General Provisions”) and subpart B (“Confined and Enclosed Spaces and Other Dangerous Atmospheres in Shipyard Employment”).

DATES: Comments must be submitted (postmarked, sent, or received) by May 31, 2011.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit your comments and attachments to the OSHA Docket Office, Docket No. OSHA-2011-0034, U.S. Department of Labor, Room N-2625, 200 Constitution Avenue, NW., Washington, DC 20210. Deliveries (hand, express mail, messenger, and courier service) are accepted during the Department of Labor's and Docket Office's normal business hours, 8:15 a.m. to 4:45 p.m., e.t.

Instructions: All submissions must include the Agency name and OSHA docket number for the Information Collection Request (ICR) (OSHA-2011-0034). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download through the Web site. All submissions, including copyrighted material, are available for inspection and copying at the OSHA Docket Office. You also may contact Theda Kenney at the address below to obtain a copy of the ICR.

FOR FURTHER INFORMATION CONTACT: Theda Kenney, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

The following is a description of the requirements in subparts A and B that pertain to the collection and retention of information:

Designation (§ 1915.7(b)); and Recordkeeping (§ 1915.7(d))

Paragraph (b)(2) states that employers must designate one or more competent persons to perform required inspections and tests, unless a Marine Chemist will do so. The paragraph also requires that employers maintain a roster of designated competent persons or a statement that a Marine Chemist will perform all required inspections and tests. In addition, employers are to ensure that the rosters contain, at a minimum, the employer's name, the name of the designated competent persons, and the date the worker completed training as a competent person. If requested, employers must make the roster or statement available to workers, their representatives, OSHA compliance officers, and representatives from the National Institute for Occupational Safety and Health (NIOSH).

Paragraph (d)(1) specifies that employers ensure that competent persons, Marine Chemists, and Certified Industrial Hygienists (CIHs) make a record of each inspection and test they conduct. The record of the inspection or test must contain the employer's location; time, date, and location of the inspected space; the operations performed; test results; and any instructions. Paragraph (d)(2) requires that employers post the record in the immediate vicinity of the inspected space while workers are working in the space. Employers must maintain the record in a file for at least three months after work in the space is complete. In addition, paragraph (d)(3) requires that employers make inspection and test records available, upon request, to workers, their representatives, OSHA compliance officers, and NIOSH.

Oxygen Content (§ 1915.12(a)(1) and (a)(2)); Flammable Atmospheres (§ 1915.12(b)(1) and (b)(2)); and Toxic, Corrosive, Irritant or Fumigated Atmospheres and Residues (§ 1915.12(c)(1), (c)(2), and (c)(3))

Before a worker initially enters a space, paragraph (a)(1) requires employers to ensure that a competent person visually inspects and tests it to determine its atmospheric oxygen content. Spaces subject to this requirement include:

Sealed spaces, such as, but not limited to, coated and closed-up spaces, and freshly painted non-ventilated spaces;

Spaces that contain materials or residues of material that can cause it to become oxygen deficient; spaces and adjacent spaces that contain or have contained combustible or flammable liquids or gases, or that contain or previously contained toxic, corrosive, or irritant liquids, gases, or solids; and

Fumigated and adjacent spaces.

If the space has an oxygen-deficient atmosphere, paragraph (a)(2) specifies that employers must label the space “Not Safe for Workers.” For oxygen-enriched spaces, the label must read “Not Safe for Workers—Not Safe for Hot Work.” Employers must ventilate these spaces with a sufficient volume and flow rate to maintain the oxygen content at or above 19.5 percent and below 22.0 percent by volume, at which point they may remove the warning label.

Under paragraph (b)(1), employers must have a competent person visually inspect a space or adjacent space for combustible or flammable liquids or gases. If such liquids or gases are present, the competent person must test the atmospheric concentration prior to worker entry. If the concentration is equal to or greater than 10 percent of the lower explosive limit (LEL), paragraph (b)(2) specifies that the employer must label the space “Not Safe for Workers—Not Safe for Hot Work.” Employers must provide ventilation at a volume and flow rate that maintains the concentration of flammable vapors below 10 percent of the LEL; the employer may remove the warning label when the vapors reach this level.

Paragraph (c)(1) mandates that if a space or adjacent space contains or previously contained liquids, gases, or solids that are toxic, corrosive, or an irritant, employers must have a competent person visually inspect the space to determine whether these substances are present. If so, the competent person must test the atmospheric concentration before a worker may enter the space. Under paragraph (c)(2), employers must label the space “Not Safe for Workers” if the air concentration of these substances exceeds the permissible exposure limit (PEL), specified by 29 CFR 1915, subpart Z (“Toxic and Hazardous Substances”), or is immediately dangerous to life or health (IDLH). Employers must provide a sufficient ventilation volume and flow rate to maintain the atmospheric concentration at or below the PEL or below the IDLH if there is no PEL, after which they may remove the warning labels. Paragraph (c)(3) specifies that if, after ventilation, the concentrations are not at or below the PEL or below the IDLH, employers must have a Marine Chemist or CIH retest the space until they can certify it as “Enter with Restrictions” or “Safe for Workers.”

Training of Employees Entering Confined and Enclosed Spaces or Other Dangerous Atmospheres and Training Certification Records (§ 1915.12(d))

Paragraphs (d)(1) through (d)(4) require employers to train workers who enter a confined and enclosed space or other dangerous atmospheres so they can perform their duties safely. Workers must receive the required training before they begin to work in a confined space, and if a change in operations or their duties results in a new hazard not previously addressed by the training. Employers must train workers to recognize the characteristics of the confined space; anticipate and be aware of the hazards that may be present in the space; recognize the adverse health effects that exposure to these hazards may cause; understand the physical signs and reactions that may result from exposure to these hazards; know what personal protective equipment is needed for safe entry into and exit from the space; and be aware of and know the proper use of barriers that may be needed to protect workers from the hazards. In addition, paragraph (d)(3) specifies that workers be trained to exit the space if the employer or employer representative orders an evacuation, an evacuation signal or alarm is activated, or the worker perceives that a dangerous condition exists.

Under paragraph (d)(5), employers must certify that each worker received the required training in accordance with paragraphs (d)(1) through (d)(4). The certification is to contain the worker's name, the name of the certifier, and the certification date, and be available for inspection by OSHA compliance officers, NIOSH, and workers and their representatives.

Rescue Teams (§ 1915.12(e))

Under paragraph (e), employers must establish a shipyard rescue team, or arrange for an outside rescue team that will respond promptly to a request for rescue service. For shipyard-based rescue teams, paragraph (e)(1) specifies that employers must provide and train team members to use personal protective equipment necessary to make a rescue, train each team member to perform his/her rescue functions, ensure that the team practices its skills at least annually, and have at least one person on a team maintain current first-aid certification. If employers use an outside rescue team, paragraph (e)(2) requires the employer to inform the members of the team of the hazards they may encounter when called to rescue workers from confined and enclosed spaces or other dangerous atmospheres at the shipyard facility.

Exchanging Hazard Information Between Employers (§ 1915.12(f))

If an employer has workers who work in confined and enclosed spaces or other dangerous atmospheres, this paragraph requires the employer to inform other employers whose workers may enter the same space, about the hazards, safety rules, and emergency procedures concerning those spaces and atmospheres.

Requirements for Performing Cleaning and Cold Work (§ 1915.13(b)(10))

Paragraph (b)(2) requires that a competent person test the concentration of flammable, combustible, toxic, corrosive, or irritant vapors within the confined or enclosed space prior to workers beginning cleaning or cold work. Paragraph (b)(3) specifies that continuous ventilation must be provided at volumes and flow rates sufficient to ensure that the concentration of flammable vapor is maintained below 10 percent of the LEL, and toxic, corrosive, or irritant vapors are maintained within the PELs and below IDLH levels. Paragraph (b)(4) requires that the competent person conduct testing of the confined or enclosed space as often as necessary during cleaning or cold work to ensure that air concentrations remain at the levels specified in paragraph (b)(3).

Paragraph (b)(7) requires that the competent person test ventilation discharge areas and other areas where discharge vapors may collect to determine whether those vapors are accumulating in concentrations that are hazardous to workers. If accumulations are hazardous, all work in the contaminated areas must be stopped until the vapors have dissipated or been removed.

Paragraph (b)(10) requires that employers post signs in a prominent location that prohibit sources of ignition within or near a space that previously contained flammable or combustible liquids or gases in bulk quantities. Employers must post these signs at the entrance to the space, in adjacent spaces, and in the open area adjacent to those spaces.

Hot Work Requiring Testing by a Marine Chemist or Coast Guard Authorized Person (§ 1915.14(a)(1) and (a)(2))

Under paragraph (a)(1), employers must have a Marine Chemist or a U.S. Coast Guard authorized person test and certify a work area as safe for hot work if the area is in or on any of the following confined and enclosed spaces and other dangerous atmospheres, boundaries of spaces, or pipelines: within, on, or immediately adjacent to spaces that contain or previously contained combustible or flammable liquids or gases or fuel tanks that contain or previously contained fuel; or pipelines, heating coils, pump fittings, or other accessories connected to spaces that contain or previously contained fuel. Under paragraph (a)(2), employers must post the certificate in the immediate vicinity of the hot work operation while the operation is in progress. On completion of the operation, they must file the certificate for at least three months.

Hot Work Requiring Testing by a Competent Person (§ 1915.14(b)(1) and (b)(2))

Paragraph (b)(1) specifies that before starting any hot work in or on the following spaces or adjacent spaces or other dangerous atmospheres, employers must have a competent person test and determine that the space does not contain concentrations of flammable vapors equal to or greater than 10 percent of the LEL: Dry cargo holds; bilges; engine rooms; boiler spaces; vessels and vessel sections; land-side confined and enclosed spaces; or other dangerous atmospheres not requiring certification by a Marine Chemist or Coast Guard authorized person. If the concentration of flammable vapors or gases is equal to or greater than 10 percent of the LEL in these or adjacent spaces, paragraph (b)(2) specifies that the employer must label the space “Not Safe for Hot Work.” Employers must provide ventilation in the space at a volume and flow rate that maintains the concentration of flammable vapors below 10 percent of the LEL, after which they may remove the warning label.

Alteration of Existing Conditions (§ 1915.15(b))

If a change occurs that may alter the atmospheric conditions within a previously tested confined or enclosed space or other dangerous atmosphere (e.g., opening a manhole or other closures, adjusting a valve that regulates the flow of hazardous materials), paragraph (b)(2) requires employers to stop work in the affected space or work area. Work may only resume after the affected space or area is visually inspected and retested and found to comply with the requirements of the subpart (§§ 1915.12, 1915.13, 1915.14).

Tests To Maintain the Conditions of a Marine Chemist's or Coast Guard Authorized Person's Certificates (§ 1915.15(c))

This paragraph requires employers to ensure that a competent person visually inspect and test each space certified as “Safe for Workers” or “Safe for Hot Work” as often as necessary to ensure that the atmospheric conditions in the space are maintained within the conditions established by the issued certificate.

Change in the Conditions of a Marine Chemist's or Coast Guard Authorized Person's Certificates (§ 1915.15(d))

If a competent person finds that the atmospheric conditions in a certified space fail to meet the applicable requirements of the subpart, employers must stop work in the space until a Marine Chemist or Coast Guard authorized person retests the space and issues a new certificate.

Tests To Maintain a Competent Person's Findings (§ 1915.15(e)); and Changes in the Conditions Determined by a Competent Person's Findings (§ 1915.15(f))

Paragraph (e) specifies that after a competent person conducts the required initial visual inspection and tests and determines that a space is safe for worker entry, employers must ensure that the required atmospheric conditions are being maintained by having a competent person continue to test and visually inspect the space as often as necessary. Paragraph (f) specifies that if the atmospheric conditions do not meet the requirements of the subpart, employers must stop work in the space until conditions in the space are brought into compliance.

Warning Signs and Labels (§ 1915.16)

This paragraph establishes protocols for preparing signs and labels required in previous paragraphs.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that OMB extend its approval of the collection of information (paperwork) requirements necessitated by Subpart A (“General Provisions”) and Subpart B (“Confined and Enclosed Spaces and Other Dangerous Atmospheres in Shipyard Employment”) of 29 CFR part 1915. The Agency is requesting an adjustment decrease of 10 burden hours (from 312,774 to 312,764 hours). This decrease is due to a drop in the job opening and labor turnover rate from 3.7 percent to 3.2 percent. The Agency will summarize the comments submitted in response to this notice and will include this summary in its request to OMB.

Type of Review: Extension of a currently approved collection.

Title: Subpart A (“General Provisions”) and Subpart B (“Confined and Enclosed Spaces and Other Dangerous Atmospheres in Shipyard Employment”) (29 CFR part 1915).

OMB Number: 1218-0011.

Affected Public: Business or other for-profits; Not-for-profit organizations; Federal Government; State, Local or Tribal Government.

Frequency: On occasion.

Average Time per Response: Varies from 10 minutes (.17 hour) for a secretary to maintain a training certification record to 10 minutes (.17 hour) for a supervisory shipyard production worker to update, maintain and post either the required roster or statement at each shipyard.

Estimated Total Burden Hours: 312,764.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (fax); or (3) by hard copy. All comments, attachments, and other material must identify the Agency name and the OSHA docket number for this ICR (Docket No. OSHA-2011-0034). You may supplement electronic submissions by uploading document files electronically. If you wish to mail additional materials in reference to an electronic or a facsimile submission, you must submit them to the OSHA Docket Office (see the section of this notice titled ADDRESSES). The additional materials must clearly identify your electronic comments by your name, date, and docket number so the Agency can attach them to your comments.

Because of security procedures, the use of regular mail may cause a significant delay in the receipt of comments. For information about security procedures concerning the delivery of materials by hand, express delivery, messenger or courier service, please contact the OSHA Docket Office at (202) 693-2350, (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download through this Web site. All submissions, including copyrighted material, are available for inspection and copying at the OSHA Docket Office. Information on using the http://www.regulations.gov Web site to submit comments and access the docket is available at the Web site's “User Tips” link. Contact the OSHA Docket Office for information about materials not available through the Web site, and for assistance in using the Internet to locate docket submissions.

V. Authority and Signature

David Michaels, Ph.D., MPH, Assistant Secretary of Labor for Occupational Safety and Health, directed the preparation of this notice. The authority for this notice is the Paperwork Reduction Act of 1995 (44 U.S.C. 3506 et seq.) and Secretary of Labor's Order No. 4-2010 (75 FR 55355).

Signed at Washington, DC on March 23, 2011.
David Michaels,
Assistant Secretary of Labor for Occupational Safety and Health.

[FR Doc. 2011-7261 Filed 3-28-11; 8:45 am]

BILLING CODE 4510-26-P